DEPARTMENT OF TRANSPORTATION

Federal Transit Administration

Limitation on Claims Against a Proposed Public Transportation Project

AGENCY: Federal Transit Administration (FTA), DOT.

ACTION: Notice.

SUMMARY: This notice announces final environmental actions taken by the Federal Transit Administration (FTA) for a project in Hennepin County, MN. The purpose of this notice is to announce publicly the environmental decisions by FTA on the subject project and to activate the limitation on any claims that may challenge these final environmental actions.

DATES: By this notice, FTA is advising the public of final agency actions subject to Section 139(l) of Title 23, United States Code (U.S.C.). A claim seeking judicial review of FTA actions announced herein for the listed public transportation project will be barred unless the claim is filed on or before December 22, 2016.

FOR FURTHER INFORMATION CONTACT: Jay M. Fox, Acting Assistant Chief Counsel, Office of Chief Counsel, (215) 656-7258 or Terence Plaskon, Environmental Protection Specialist, Office of Environmental Programs, (202) 366-0442. FTA is located at 1200 New Jersey Avenue SE., Washington, DC 20590. Office hours are from 9:00 a.m. to 5:00 p.m., Monday through Friday, except Federal holidays.

SUPPLEMENTARY INFORMATION: Notice is hereby given that FTA has taken final agency actions by issuing certain approvals for the public transportation project listed below. The actions on the project, as well as the laws under which such actions were taken, are described in the documentation issued in connection with the project to comply with the National Environmental Policy Act (NEPA) and in other documents in the FTA administrative record for the project. Interested parties may contact either the project sponsor or the relevant FTA Regional Office for more information. Contact information for FTA's Regional Offices may be found at https://www.fta.dot.gov.

This notice applies to all FTA decisions on the listed project as of the issuance date of this notice and all laws under which such actions were taken, including, but not limited to, NEPA [42 U.S.C. 4321-4375], Section 4(f) of the Department of Transportation Act of 1966 [49 U.S.C. 303], Section 106 of the National Historic Preservation Act [16 U.S.C. 470f], and the Clean Air Act [42 U.S.C. 7401-7671q]. This notice does not, however, alter or extend the limitation period for challenges of project decisions subject to previous notices published in the Federal Register. The project and actions that are the subject of this notice are:

Project name and location: Southwest Light Rail Transit (LRT) Project, Hennepin County, MN. Project sponsor: Metropolitan Council. Project description: The proposed project is approximately 14.5 miles of new double-track proposed as an extension of the METRO Green Line (Central Corridor LRT), which will operate from downtown Minneapolis through the communities of St. Louis Park, Hopkins, Minnetonka, and Eden Prairie, passing in close proximity to Edina. The project will operate primarily at-grade, with structures providing grade separation of LRT crossings, roadways, and water bodies at specified locations. For just under one-half mile, the project will operate in a shallow light rail tunnel in the Kenilworth Corridor, between West Lake Street and just south of the Kenilworth Lagoon. Proposed system elements include 16 new light rail stations (including the Eden Prairie Town Center Station that is deferred for construction at a later date), one operations and maintenance facility, 20 traction power substations, 25 signal bungalow sites, and other ancillary facilities. Final agency actions: Section 4(f) determination; a Section 106 Memorandum of Agreement, dated July 13, 2016; project-level air quality conformity; and a Record of Decision, dated July 15, 2016. Supporting documentation: Final Environmental Impact Statement, dated May 13, 2016.

Lucy Garliauskas,
Associate Administrator Planning and Environment.

[FR Doc. 2016-17469 Filed 7-22-16; 8:45 am]

BILLING CODE P